NATIONAL ARCHIVES AND RECORDS ADMINISTRATION

Advisory Committee on Presidential Library-Foundation Partnerships

AGENCY: National Archives and Records Administration.

ACTION: Notice of Meeting.

SUMMARY: In accordance with the Federal Advisory Committee Act, as amended (5 U.S.C. appendix 2), the National Archives and Records Administration (NARA) announces a meeting of the Advisory Committee on Presidential Library-Foundation Partnerships. The meeting will be held to discuss the Presidential Library program and topics related to the public-private partnership between the Presidential Libraries and their Presidential Foundations.

DATES: The meeting will be held on November 29, 2012 from 9:00 a.m. to 12:00 noon.

ADDRESSES: The National Archives building at 700 Pennsylvania Avenue NW., Washington, DC, room 105.

FOR FURTHER INFORMATION CONTACT: Susan Donius, Director, Office of Presidential Libraries, at the National Archives and Records Administration, 8601 Adelphi Road, College Park, Maryland 20740, telephone number (301) 837-3250. Contact the Presidential Libraries staff at denise.lebeck@nara.gov.

SUPPLEMENTARY INFORMATION: The meeting will be open to the public. Meeting attendees may enter from the Pennsylvania Avenue entrance. Photo identification will be required. No visitor parking is available at the Archives building; however there are commercial parking lots and metered curb parking nearby.

Dated: November 8, 2012.
Patrice Little Murray,
Acting Committee Management Officer.

[FR Doc. 2012-27761 Filed 11-14-12; 8:45 am]

BILLING CODE 7515-01-P